Proclamation 7620 of November 1, 2002

National American Indian Heritage Month, 2002

By the President of the United States of America

A Proclamation

During American Indian Heritage Month, we celebrate the rich cultural traditions and proud ancestry of American Indians and Alaska Natives, and we recognize the vital contributions these groups have made to the strength and diversity of our society.

American Indians and Alaska Natives have played a central role in our history. In 1805 and 1806, Sakajawea, a Shoshone Indian woman, helped guide Lewis and Clark on their historic expedition to explore the uncharted West. This remarkable journey, known as the “Voyage of Discovery,” would not have been possible without her efforts, and today she remains a proud symbol of American Indian courage and strength.

We are also grateful to the Navajo Codetalkers for their service during World War II. Participating in every assault the U.S. Marines conducted in the Pacific from 1942-1945, the Navajo Codetalkers relayed secret messages that helped our Nation and the allies secure victory. The Congress recognized these heroes by authorizing the President to award them Congressional Gold Medals, which I was honored to present last year. These examples of our true American spirit reflect our shared history and serve as reminders of the unique heritage of American Indians and Alaska Natives. Upon its completion on the National Mall, the Smithsonian Institution's National Museum of the American Indian will help educate all Americans about the lives, contributions, and culture of our Native peoples.

Education is essential to the future success of tribal communities. We will work together to ensure that our Indian education programs offer high-quality instruction and job training that contribute to the vitality of our Native American communities. We will also work to maintain the legacy of American Indians and Alaska Natives by preserving irreplaceable languages and cultural traditions.

To enhance our efforts to help Indian nations be self-governing, self-supporting, and self-reliant, my Administration will continue to honor tribal sovereignty by working on a government-to-government basis with American Indians and Alaska Natives. We will honor the rights of Indian tribes and work to protect and enhance tribal resources.

My Administration is working to increase employment and expand economic opportunities for all Native Americans. Several Federal agencies recently participated in the National Summit on Emerging Tribal Economies to help us accomplish this goal. In order to build upon this effort, my Administration will work to promote cooperation and coordination among Federal agencies for the purpose of fostering greater economic development of tribal communities. By working together on important economic initiatives, we will strengthen America by building a future of hope and promise for all Native Americans.

NOW, THEREFORE, I, GEORGE W. BUSH, President of the United States of America, by virtue of the authority vested in me by the Constitution and laws of the United States, do hereby proclaim November 2002 as National American Indian Heritage Month. I call upon all Americans to commemorate this month with appropriate programs and activities.

IN WITNESS WHEREOF, I have hereunto set my hand this first day of November, in the year of our Lord two thousand two, and of the Independence of the United States of America the two hundred and twenty-seventh.

B

[FR Doc. 02-28433

Filed 11-5-02; 8:46 am]

Billing code 3195-01-P